OFFICE OF THE UNITED STATES TRADE REPRESENTATIVE

2005 Reallocation of the Tariff-Rate Quota for Raw Cane Sugar

AGENCY: Office of the United States Trade Representative.

ACTION: Notice.

SUMMARY: The Office of the United States Trade Representative (USTR) is providing notice of the country-by-country reallocations of the FY 05 in-quota quantity increase of the tariff-rate quotas for imported raw cane sugar.

DATES: Effective Date: September 2, 2005.

ADDRESSES: Inquiries may be mailed or delivered to Elizabeth Leier, Director of Agricultural Trade Policy, Office of Agricultural Affairs, Office of the United States Trade Representative, 600 17th Street, NW., Washington, DC 20508.

FOR FURTHER INFORMATION CONTACT: Elizabeth Leier, Office of Agricultural Affairs, 202-395-6127.

SUPPLEMENTARY INFORMATION: Pursuant to Additional U.S. Note 5 to chapter 17 of the Harmonized Tariff Schedule of the United States (HTS), the United States maintains tariff-rate quotas for imports of raw cane and refined sugar.

Section 404(d)(3) of the Uruguay Round Agreements Act (19 U.S.C. 3601(d)(3)) authorizes the President to allocate the in-quota quantity of a tariff-rate quota for any agricultural product among supplying countries or customs areas. The President delegated this authority to the United States Trade Representative under Presidential Proclamation 6763 (60 FR 1007).

The in-quota quantity increase of the tariff-rate quota for raw cane sugar for the remainder of FY 05 (ending September 30, 2005) has been established by the Secretary of Agriculture at 76,609 metric tons, raw value (84,447 short tons). In addition, I have determined to reallocate 53,409 metric tons from countries that have stated they will be unable to fill the FY 2005 quota. The total quantity of 130,018 metric tons raw value is being allocated to the following countries:

Country | FY 2005 Reallocation
Argentina | 8,890
Australia | 17,159
Belize | 2,274
Bolivia | 1,654
Brazil | 29,977
Colombia | 4,962
Dominican Republic | 1,220
Ecuador | 2,274
El Salvador | 5,375
Fiji | 1,861
Guatemala | 9,923
Guyana | 2,481
Honduras | 2,067
Mauritius | 2,481
Mozambique | 2,688
Nicaragua | 4,342
Panama | 5,995
Peru | 8,476
South Africa | 4,755
Swaziland | 3,308
Taiwan | 2,481
Thailand | 2,894
Zimbabwe | 2,481

These allocations are based on the countries' historical shipments to the United States. The allocations of the raw cane sugar tariff-rate quota to countries that are net importers of sugar are conditioned on receipt of the appropriate verifications of origin.

Conversion factor: 1 metric ton = 1.10231125 short tons.

Rob Portman,
United States Trade Representative.

[FR Doc. 05-17544 Filed 9-1-05; 8:45 am]

BILLING CODE 3190-W5-P